SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB) Office of Management and Budget, Attn: Desk Officer for SSA, Fax: 202-395-6974, E-mail address: OIRA_Submission@omb.eop.gov

(SSA) Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than August 2, 2010. Individuals can obtain copies of the collection instruments by calling the SSA Director for Reports Clearance at 410-965-0454 or by writing to the above e-mail address.

1. Request for Accommodation in Communication Method—0960-0777. In American Council of the Blind, et al. v. Michael Astrue and Social Security Administration, class plaintiffs representing Social Security applicants, beneficiaries, recipients, and representative payees who are blind or visually impaired challenged the adequacy of the communication methods SSA uses in its notices and other communications. Prior to the court's order of October 20, 2009 in American Council of the Blind, SSA offered three modes of communications for blind and visually impaired Social Security recipients: (1) A standard print notice by first-class mail; (2) a standard print notice by first-class mail with a follow-up telephone call; and (3) certified mail. In American Council of the Blind, the court required SSA to offer two additional modes of communication to blind or visually impaired applicants, beneficiaries, recipients, and representative payees: (4) Braille, and (5) Microsoft Word files (on data compact discs).

In American Council of the Blind, the court further ordered SSA to implement Section 504 through 45 CFR 85.51 of the Code of Federal Regulations (CFR) meaning SSA must “take appropriate steps to ensure effective communication with applicants, participants, personnel of other Federal entities, and members of the public.” To meet the court's mandates, SSA uses Form SSA-9000, Request for Accommodation in Communication Method, to gather information from blind or visually impaired individuals about why their particular accommodation (other than the five accommodations already offered by the agency) will allow SSA to communicate effectively with them. This form asks respondents to describe the type of accommodation they want, to disclose the condition they have that necessitates the need for a different type of accommodation, and to explain why none of the five methods described above are sufficient for their needs. The respondents are Social Security applicants, beneficiaries, recipients, and representative payees who are blind or visually impaired and are asking SSA to send them notices and other communications in an alternative method besides the five modalities we describe in this notice.

Type of Request: Revision of an OMB-approved information collection.

Method of information collection | Number of respondents | Frequency of response | Response time (min.) | Burden (hours)
Personal Interview (over the phone or in-person) | 2,250 | 1 | 10 | 375
Form (taken or mailed from field office) | 250 | 1 | 15 | 63
Total | 2,500 |  |  | 438

II. SSA has submitted the information collections listed below to OMB for clearance. Your comments on the information collections would be most useful if OMB and SSA receive them within 30 days from the date of this publication. To be sure we consider your comments, we must receive them no later than July 2, 2010. You can obtain a copy of the OMB clearance packages by calling the SSA Director for Reports Clearance at 410-965-0454 or by writing to the above e-mail address.

1. Report to United States Social Security Administration by Person Receiving Benefits for a Child or for an Adult Unable to Handle Funds/Report to the United States Social Security Administration—0960-0049. SSA uses the information it collects on Forms SSA-7161-OCR-SM and SSA-7162-OCR-SM to: (1) Determine continuing entitlement to Social Security benefits; (2) correct benefit amounts for beneficiaries outside the United States; and (3) monitor the performance of representative payees outside the United States. The respondents are individuals living outside the United States who are receiving benefits on their own (or for someone else) under Title II of the Social Security Act.

Type of Request: Revision of an OMB-approved information collection.

Form No. | Number of respondents | Frequency of response | Average burden per response (min.) | Estimated annual burden
SSA-7161-OCR-SM | 30,560 | 1 | 15 | 7,640
SSA-7162-OCR-SM | 271,142 | 1 | 5 | 22,595
Total | 301,702 |  |  | 30,235

2. Real Property Current Market Value Estimate—0960-0471. SSA considers a person's resources when evaluating eligibility for Supplemental Security Income (SSI) payments. The value of an individual's resources, including non-home real property, is one of the eligibility requirements for SSI payments. SSA obtains current market value estimates of the claimant's real property through Form SSA-L2794. The respondents are small business operators in real estate, state and local employees, and other individuals knowledgeable about local real estate values.

Type of Request: Revision of an OMB-approved information collection.

Type of respondents | Number of respondents | Frequency of response | Average burden of response (min.) | Estimated annual burden (hours)
Small Business Operators in Real Estate | 4,894 | 1 | 20 | 1,631
State and local government | 490 | 1 | 20 | 163
Individuals | 54 | 1 | 20 | 18
Total | 5,438 |  |  | 1,812

3. Employer Verification of Earnings After Death—20 CFR 404.821 and 404.822—0960-0472. When SSA records show a wage earner is deceased and an employer reported wages for the wage earner for a year subsequent to death, SSA must contact the employer and verify the reported wage and employee information. SSA uses Form SSA-L4112 to verify that the wage information the employer previously submitted is correct for the employee and the year in question. The respondents are employers who report wages for employees who have died.

Type of Request: Revision of an OMB-approved information collection.

Number of Respondents: 50,000.

Frequency of Response: 1.

Average Burden per Response: 10 minutes.

Estimated Annual Burden: 8,333 hours.

Date: May 26, 2010.
John Biles,
Director, Office of Document Management, Social Security Administration.

[FR Doc. 2010-13092 Filed 6-1-10; 8:45 am]

BILLING CODE 4191-02-P